DEPARTMENT OF HEALTH AND HUMAN SERVICES

Centers for Medicare & Medicaid Services

42 CFR Parts 412, 413, and 476

[CMS-1518-CN4]

RIN 0938-AQ24

Medicare Program; Hospital Inpatient Prospective Payment Systems for Acute Care Hospitals and the Long-Term Care Hospital Prospective Payment System and Fiscal Year 2012 Rates; Corrections

AGENCY: Centers for Medicare & Medicaid Services (CMS), HHS.

ACTION: Correction of final rule.

SUMMARY: This document corrects technical errors that occurred in the Addendum of the final rule entitled “Medicare Program; Hospital Inpatient Prospective Payment Systems for Acute Care Hospitals and the Long-Term Care Hospital Prospective Payment System and Fiscal Year 2012 Rates” which appeared in the August 18, 2011 Federal Register.

DATES: Effective Date: This document is effective January 31, 2012.

Applicability Date: The corrections noted in this document and posted on the CMS Web site are applicable to hospital payments and discharges on or after October 1, 2011.

FOR FURTHER INFORMATION CONTACT: Brian Slater, (410) 786-4487.

SUPPLEMENTARY INFORMATION:

I. Background

In FR Doc. 2011-19719 of August 18, 2011 (76 FR 51476), the final rule entitled “Medicare Program; Hospital Inpatient Prospective Payment Systems for Acute Care Hospitals and Fiscal Year 2012 Rates and to the Long-Term Care Hospital Prospective Payment System and Rate Year 2012 Rates” (hereinafter referred to as the FY 2012 IPPS/FY 2012 LTCH PPS final rule) there were a number of technical errors in the tables included in the Addendum of the final rule which are, posted on the CMS Web site. In section II. of this correcting document, we describe these errors and note the tables that will include the corrections. We have already made changes to our rates, updated PRICER and sent a Technical Director's Letter on December 20, 2011 informing fiscal intermediaries of these changes. Accordingly, the corrections are applicable to hospital discharges and payments on or after October 1, 2011.

II. Summary of Errors and Corrections Posted on the CMS Web site

On pages 51812 and 51813, we list the tables that are tables available only through the Internet. We are making corrections to Tables 2, 4C, and 9A in this notice. Therefore, we have corrected these errors and will post corrections to Tables 2, 4C, and 9A on the CMS Web site at http://www.cms.hhs.gov/AcuteInpatientPPS/01_overview.asp).

In Table 2.—Acute Care Hospitals Case-Mix Indexes for Discharges Occurring in Federal Fiscal Year 2010; Hospital Wage Indexes for Federal Fiscal Year 2012; Hospital Average Hourly Wages for Federal Fiscal Years 2010 (2006 Wage Data), 2011 (2007 Wage Data), and 2012 (2008 Wage Data); and 3-Year Average of Hospital Average Hourly Wages, we are correcting the wage index value for providers 010022, 010164, and 360096, which were inadvertently omitted from Table 9A as receiving a geographic reclassification for FY 2012.

In Table 4C.—Wage Index and Capital Geographic Adjustment Factor (GAF) for Acute Care Hospitals that are Reclassified, we are adding a wage index value for CBSA 11500 Anniston-Oxford, AL. Provider 010164 was omitted from Table 9A as being reclassified to CBSA 11500. As there was not a published value for CBSA 11500, due to no hospitals previously reclassified to that CBSA, we are adding a reclassified wage index in Table 4C.

In Table 9A.—Hospital Reclassifications and Redesignations—FY 2012, we are correcting the inadvertent omission of providers 010022, 010164, and 360096 from Table 9A by adding these 3 providers to the table.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(b) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this correcting document does not constitute a rulemaking that would be subject to the APA notice and comment or delayed effective date requirements. This correcting document corrects technical errors in the tables included in the Addendum of the FY 2012 IPPS/LTCH PPS final rule and does not make substantive changes to the policies or payment methodologies that were adopted in the final rule. As a result, this correcting document is intended to ensure that the tables included in the Addendum of the FY 2012 IPPS/LTCH PPS final rule accurately reflects the policies adopted in that rule.

In addition, even if this were a rulemaking to which the notice and comment and delayed effective date requirements applied, we find that there is good cause to waive such requirements. Undertaking further notice and comment procedures to incorporate the corrections in this document into the final rule or delaying the effective date would be contrary to the public interest. Furthermore, such procedures would be unnecessary, as we are not altering the policies that were already subject to comment and finalized in our final rule. Therefore, we believe we have good cause to waive the notice and comment and effective date requirements.

(Catalog of Federal Domestic Assistance Program No. 93.773, Medicare—Hospital Insurance; and Program No. 93.774, Medicare—Supplementary Medical Insurance Program)

Dated: January 23, 2012.
Jennifer M. Cannistra,
Executive Secretary to the Department.

[FR Doc. 2012-2220 Filed 1-31-12; 8:45 am]

BILLING CODE 4120-01-P